DEPARTMENT OF COMMERCE

National Oceanic and Atmospheric Administration

RIN 0648-XG586

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Monitoring Committee will hold a public meeting.

DATES: The meeting will be held on Tuesday, November 13, 2018, from 10 a.m. to 3 p.m. For agenda details, see SUPPLEMENTARY INFORMATION.

ADDRESSES: The meeting will be held via webinar, which can be accessed at: http://mafmc.adobeconnect.com/sfsbsb_mc_nov2018/. Meeting audio can also be accessed via telephone by dialing 1-800-832-0736 and entering room number 5068871.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Monitoring Committee will meet to consider 2019 recreational management measures for summer flounder, scup, and black sea bass. In light of the ongoing benchmark stock assessment for summer flounder, with peer review scheduled for late November 2018, the Monitoring Committee will consider how to approach development of 2019 summer flounder recreational measures after the assessment results are available. In addition, the Monitoring Committee will receive an update on a recreational Management Strategy Evaluation (MSE) for summer flounder. For scup and black sea bass, the Monitoring Committee will recommend federal waters measures for consideration by the MAFMC and Atlantic States Marine Fisheries Commission's Summer Flounder, Scup, and Black Sea Bass Board in December 2018.

The Monitoring Committee will also review analysis of proposed changes in the commercial scup incidental possession limits and may develop plans for reviewing the commercial scup incidental possession limits in future years.

Meeting materials will be posted to http://www.mafmc.org/council-events/2018/sfsbsb-mc-meeting.

Special Accommodations

The meeting is physically accessible to people with disabilities. Requests for sign language interpretation or other auxiliary aids should be directed to M. Jan Saunders at the Mid-Atlantic Council Office (302) 526-5251 at least 5 days prior to the meeting date.

Dated: October 24, 2018.
Tracey L. Thompson,
Acting Deputy Director, Office of Sustainable Fisheries, National Marine Fisheries Service.

[FR Doc. 2018-23557 Filed 10-26-18; 8:45 am]

BILLING CODE 3510-22-P